DEPARTMENT OF THE INTERIOR

Bureau of Land Management

[LLCA 942000 L57000000 BX0000]

Filing of Plats of Survey: California

AGENCY: Bureau of Land Management, Interior.

ACTION: Notice.

SUMMARY: The plats of survey of lands described below are scheduled to be officially filed in the Bureau of Land Management California State Office, Sacramento, California, on the next business day following the plat acceptance date.

ADDRESSES: A copy of the plats may be obtained from the Land Office at the California State Office, Bureau of Land Management, 2800 Cottage Way, Sacramento, California 95825, upon required payment.

FOR FURTHER INFORMATION CONTACT: Chief, Branch of Geographic Services, Bureau of Land Management, California State Office, 2800 Cottage Way, Room W-1623, Sacramento, California 95825, (916) 978-4310.

SUPPLEMENTARY INFORMATION: These surveys were executed to meet the administrative needs of various agencies; the Bureau of Land Management, Bureau of Indian Affairs, National Park Service, U.S. Forest Service or the Army Corps of Engineers. A person or party who wishes to protest against a survey must file a notice that they wish to protest (at the above address) with the California State Director, Bureau of Land Management, Sacramento, California. The lands surveyed are:

Mount Diablo Meridian, California

T. 9 S., R. 2 W., accepted July 12, 2010.

T. 9 N., R. 17 E., accepted July 14, 2010.

T. 26 N., R. 15 E., accepted August 4, 2010.

T. 22 S., R. 9 E., accepted August 4, 2010.

T. 40-41 N., R. 7 E., accepted September 23, 2010.

T. 18 N., R. 8 E., accepted September 27, 2010.

San Bernardino Meridian, California

T. 9 S., R. 2 W., accepted July 12, 2010.

T. 15 S., R. 6 E., accepted July 27, 2010.

T. 9 N., R. 20 W., accepted August 05, 2010.

T. 1 S., R. 3-4 E., accepted August 16, 2010.

Authority: 43 U.S.C., Chapter 3.

Dated: October 4, 2010.
Lance J. Bishop,
Chief, Branch of Geographic Services.

[FR Doc. 2010-26063 Filed 10-15-10; 8:45 am]

BILLING CODE 4310-40-P